DEPARTMENT OF COMMERCE

International Trade Administration

[A-570-135]

Certain Chassis and Subassemblies Thereof From the People's Republic of China: Rescission of Antidumping Duty Administrative Review; 2023-2024

AGENCY: Enforcement and Compliance, International Trade Administration, Department of Commerce.

SUMMARY: The U.S. Department of Commerce (Commerce) is rescinding the administrative review of the antidumping duty (AD) order on certain chassis and subassemblies thereof (chassis) from the People's Republic of China (China) for the period of review (POR) July 1, 2023, through June 30, 2024.

DATES: Applicable January 23, 2025.

FOR FURTHER INFORMATION CONTACT: Gemma Larsen, AD/CVD Operations, Office I, Enforcement and Compliance, International Trade Administration, U.S. Department of Commerce, 1401 Constitution Avenue NW, Washington, DC 20230; telephone: (202) 482-8125.

SUPPLEMENTARY INFORMATION:

Background

On July 8, 2021, Commerce published in the Federal Register the AD order on chassis from China.¹ On July 1, 2024, Commerce published in the Federal Register a notice of opportunity to request an administrative review of the Order.² On July 31, 2024, Commerce received a timely request from domestic producers of subject merchandise, the Coalition of American Chassis Manufacturers (Coalition), in accordance with 19 CFR 351.213(b)(1), to conduct an administrative review of the Order of the following exporters: (1) CIMC Vehicles (Group) Co., Ltd.; (2) Dongguan CIMC Vehicles Co., Ltd. (CIMC Vehicles); (3) Qingdao CIMC Special Vehicles Co., Ltd; and (4) SinoTrailers.³

¹ See Certain Chassis and Subassemblies Thereof from the People's Republic of China: Antidumping Duty Order, 86 FR 36093 (July 8, 2021) (Order).

² See Antidumping or Countervailing Duty Order, Finding, or Suspended Investigation; Opportunity to Request Administrative Review and Join Annual Inquiry Service List, 89 FR 54437 (July 1, 2024).

³ See Coalition's Letter, “Request for Administrative Review,” dated July 31, 2024.

On August 14, 2024, Commerce published in the Federal Register a notice of initiation of administrative review with respect to imports of chassis exported by the above Chinese exporters, in accordance with section 751(a) of the Tariff Act of 1930, as amended (the Act), and 19 CFR 351.221(c)(1)(i).⁴ On August 22, 2024, we placed on the record U.S. Customs and Border Protection (CBP) data for entries of chassis from China during the POR, showing no reviewable POR entries, and invited interested parties to comment.⁵ On August 29, 2024, CIMC Vehicles submitted comments requesting Commerce rescind the administrative review.⁶

⁴ See Initiation of Antidumping and Countervailing Duty Administrative Reviews, 89 FR 66035 (August 14, 2024) (Initiation Notice).

⁵ See Memorandum, “U.S. Customs and Boarder Protection (CBP) Data Release,” dated August 22, 2024.

⁶ See CIMC Vehicles' Letter, “Comments on CBP Data,” dated August 29, 2024.

On September 19, 2024, Commerce notified all interested parties of its intent to rescind the instant review in full because there were no reviewable, suspended entries of subject merchandise by any of the four companies listed in the Initiation Notice during the POR and invited comments from interested parties.⁷ No interested party submitted comments to Commerce in response to this notice.

⁷ See Memorandum, “Notice of Intent to Rescind Review,” dated September 19, 2024.

On December 9, 2024, Commerce tolled certain deadlines in this administrative proceeding by 90 days.⁸ The deadline for the preliminary results is now July 1, 2025.

⁸ See Memorandum, “Tolling of Deadlines for Antidumping and Countervailing Duty Proceedings,” dated December 9, 2024.

Rescission of Review

Pursuant to 19 CFR 351.213(d)(3), it is Commerce's practice to rescind an administrative review of an AD order when there are no reviewable entries of subject merchandise during the POR for which liquidation is suspended.⁹ Normally, upon completion of an administrative review, the suspended entries are liquidated at the AD assessment rate calculated for the review period.¹⁰ Therefore, for an administrative review to be conducted, there must be a reviewable, suspended entry that Commerce can instruct CBP to liquidate at the AD assessment rate calculated for the review period.¹¹ As noted above, there were no entries of subject merchandise for the four companies listed in the Initiation Notice during the POR. Accordingly, in the absence of suspended entries of subject merchandise during the POR, we are hereby rescinding this administrative review, in its entirety, in accordance with 19 CFR 351.213(d)(3).

⁹ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

¹⁰ See 19 CFR 351.212(b)(1).

¹¹ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: January 16, 2025.
Abdelali Elouaradia,
Deputy Assistant Secretary for Enforcement and Compliance.

[FR Doc. 2025-01565 Filed 1-22-25; 8:45 am]

BILLING CODE 3510-DS-P